DEPARTMENT OF AGRICULTURE

Forest Service

Kaibab National Forest, Williams Ranger District; Arizona; Bill Williams Mountain Restoration Project

AGENCY: Forest Service, USDA.

ACTION: Notice of intent to prepare an environmental impact statement.

SUMMARY: The purpose of the proposed action is to improve the health and sustainability of forested conditions on and surrounding Bill Williams Mountain by reducing hazardous fuels and moving vegetative conditions in the project area toward the future desired conditions. The project area is located approximately 4 miles south-southwest of the city of Williams, Arizona. The Proposed Action includes a combination of commercial timber harvest treatments and non-commercial mechanical treatments on approximately 15,200 acres. Treatments would thin stands with mechanized equipment to meet or move toward the desired conditions, and in some stands, non-commercial treatments may be the only treatments feasible/necessary to achieve resource objectives. Prescribed fire is also proposed to be used on approximately 15,200 acres of the project area. In some areas, prescribed fire would be used in conjunction with mechanical treatments to achieve restoration and fuel treatment objectives. In other areas where operability is limited and more costly, only prescribed burning may be used to meet resource objectives.

DATES: Comments concerning the scope of the analysis must be received by May 23, 2011. The draft environmental impact statement is expected September 2011 and the final environmental impact statement is expected December 2011.

ADDRESSES: Send written comments to Tom Mutz, Team Leader, Kaibab National Forest, Williams Ranger District, 742 S. Clover Road, Williams, AZ 86046. Comments may also be sent via e-mail (with subject, Bill Williams Mountain Restoration Project Scoping Comment) to comments-southwestern-kaibab-williams@fs.fed.us or via facsimile to (928) 635.5680. A public meeting has been scheduled for Wednesday May 11, 2011 at 6 p.m. at the Williams Ranger District Office, 742 South Clover Road, Williams, AZ.

FOR FURTHER INFORMATION CONTACT: Tom Mutz at (928) 635.5661.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the proposed action is to improve the health and sustainability of forested conditions on and surrounding Bill Williams Mountain by reducing hazardous fuels and moving vegetative conditions in the project area toward the future desired conditions. This work is needed to directly and indirectly improve the watershed conditions feeding the City of Williams water supply.

Proposed Action

To meet the purpose and need for action, the Kaibab National Forest proposes to treat stands surrounding Bill Williams Mountain with mechanized equipment and prescribed fire. A combination of commercial timber harvest treatments and non-commercial mechanical treatments is proposed on approximately 15,200 acres. Mechanized treatments include hand felling, ground-based logging systems, cable-logging systems and helicopter logging. Treatments would thin stands to meet or move toward the desired conditions and in some stands, non-commercial treatments may be the only treatments feasible/necessary to achieve resource objectives. Prescribed fire is also proposed to be used on approximately 15,200 acres of the project area. In some areas, prescribed fire would be used in conjunction with mechanical treatments to achieve restoration and fuel treatment objectives. In other areas where operability is limited and more costly, only prescribed burning may be used to meet resource objectives.

Responsible Official

Kaibab Forest Supervisor.

Nature of Decision To Be Made

Based on the purpose and need for action, the findings in the Environmental Impact Statement and supporting project record, and the consideration of the best available science, the Forest Supervisor will decide:

• Whether to select the proposed action or one of the alternatives;

• What mitigation and/or monitoring measures will be required during implementation of the proposed action or any alternative selected;

• What language and content changes are needed to the Kaibab National Forest Land Management Plan.

Preliminary Issues

Early in the development of the proposed action for this project the Williams Ranger District hosted six “brainstorming” sessions. Many comments received during these sessions were incorporated into the purpose and need for action and desired conditions for the project area. Other comments have helped to identify preliminary issues that need to be considered in the development of the environmental impact statement, such as:

• The consequences and risks of a wildfire on the mountain;

• The protection of the watershed and treatment of steep slopes;

• The safety and protection of life and property on and within the vicinity of Bill Williams Mountain;

• The potential effects to Mexican Spotted Owl habitat;

• And, the potential effects to natural and cultural resources, including the protection of a Traditional Cultural Property.

Scoping Process

This notice of intent initiates the scoping process, which will guide the development of an environmental impact statement for this project. The Kaibab National Forest invites public comment and participation regarding this project and subsequent EIS through scoping efforts in the form of this notice in the Federal Register; the Schedule of Proposed Actions (SOPA); and letters sent to potentially interested persons, tribal governments, and State and other Federal agencies. A scoping meeting will also be hosted at the Williams Ranger District on Wednesday May 11, 2011 at 6 p.m. to discuss the proposed action and accept comments. The ranger station is located at 742 South Clover Road, Williams, AZ 86046. Information will be posted on the Kaibab National Forest Web site as the project progresses. Comments received during these scoping efforts will be used to determine the scope and significant issues to be analyzed in depth in the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Authority: 40 CFR 1508.22 and 36 CFR 220.5(b).

Dated: April 14, 2011.
Martie Schramm,
District Ranger.

[FR Doc. 2011-9656 Filed 4-20-11; 8:45 am]

BILLING CODE 3410-11-P